DEPARTMENT OF DEFENSE

GENERAL SERVICES ADMINISTRATION

NATIONAL AERONAUTICS AND SPACE ADMINISTRATION

[OMB Control No. 9000-0047; Docket No. 2021-0053; Sequence No. 1]

Submission for OMB Review; Place of Performance

AGENCY: Department of Defense (DoD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding place of performance.

DATES: Submit comments on or before May 3, 2021.

ADDRESSES: Written comments and recommendations for this information collection should be sent within 30 days of publication of this notice to www.reginfo.gov/public/do/PRAMain. Find this particular information collection by selecting “Currently under Review—Open for Public Comments” or by using the search function.

Additionally, submit a copy to GSA through http://www.regulations.gov and follow the instructions on the site. This website provides the ability to type short comments directly into the comment field or attach a file for lengthier comments.

Instructions: All items submitted must cite OMB Control No. 9000-0047, Place of Performance. Comments received generally will be posted without change to http://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB Control Number, Title, and Any Associated Form(s)

9000-0047, Place of Performance.

B. Need and Uses

This clearance covers the information that bidders or offerors must submit to comply with the following Federal Acquisition Regulation (FAR) requirements:

• 52.214-14, Place of Performance-Sealed Bidding. This FAR provision is prescribed for invitation for bids (i.e., FAR part 14 procurements) where the Government did not specify the place of performance.

• 52.215-6, Place of Performance. This FAR provision is prescribed for solicitations, when contracting by negotiation (i.e., FAR part 15 procurements), where the Government did not specify the place of performance.

Both provisions ask for identical information from bidders or offerors: Whether or not they intend to use one or more plants or facilities located at a different address from the address of the bidder or offeror as indicated in their bid or offer. If the response indicates the intention to use plants or facilities located at a different location than the bidder's or offeror's address, the provisions require that bidders or offerors provide the address(es) of the other place(s) of performance, along with name and address of the owner and operator of such plant or facility (if other than the bidder or offeror).

The contracting officer uses the place of performance and the owner of the plant or facility to—

(a) Determine prospective contractor responsibility;

(b) Determine price reasonableness;

(c) Conduct plant or source inspections; and

(d) Determine whether the prospective contractor is a manufacturer or a regular dealer.

C. Annual Burden

Respondents: 14,188.

Total Annual Responses: 1,996,197.

Total Burden Hours: 90,827.

D. Public Comment

A 60-day notice was published in the Federal Register at 86 FR 4075, on January 15, 2021. No comments were received.

Obtaining Copies: Requesters may obtain a copy of the information collection documents from the GSA Regulatory Secretariat Division, by calling 202-501-4755 or emailing GSARegSec@gsa.gov.

Please cite OMB Control No. 9000-0047, Place of Performance.

Janet Fry,
Director, Federal Acquisition Policy Division, Office of Governmentwide Acquisition Policy, Office of Acquisition Policy, Office of Governmentwide Policy.

[FR Doc. 2021-06651 Filed 3-31-21; 8:45 am]

BILLING CODE 6820-EP-P